ENVIRONMENTAL PROTECTION AGENCY

40 CFR Part 52

[EPA-R04-OAR-2024-0558; FRL-12961-02-R4]

Air Plan Approval; South Carolina; Charlotte-Gastonia-Rock Hill Area Maintenance Plan for the 2008 8-Hour Ozone NAAQS

AGENCY: Environmental Protection Agency (EPA).

ACTION: Final rule.

SUMMARY: The Environmental Protection Agency (EPA) is finalizing approval of a state implementation plan (SIP) revision submitted by the State of South Carolina, through the South Carolina Department of Environmental Services (SCDES, formerly the “South Carolina Department of Health and Environmental Control”), on September 26, 2023. The SIP revision includes the State's plan for maintaining the 2008 ozone National Ambient Air Quality Standard (NAAQS) through 2036 for the South Carolina portion of the bi-state Charlotte-Rock Hill, North Carolina-South Carolina 2008 8-hour ozone nonattainment area (the entire area is hereinafter referred to as the “bi-State Charlotte Area” and the South Carolina portion is hereinafter referred to as the “York County Area”). EPA is approving and incorporating this maintenance plan, including the 2018 and 2036 motor vehicle emission budgets (budgets) for nitrogen oxides (NOX) and volatile organic compounds (VOC) for the York County Area, into the SIP. EPA is finalizing approval because the York County Area maintenance plan provides for the maintenance of the 2008 8-hour ozone NAAQS within the Area through the end of the second 10-year portion of the maintenance period. Additionally, EPA finds the 2018 and 2036 budgets for the York County Area adequate for the purposes of transportation conformity.

DATES: This rule is effective December 22, 2025.

ADDRESSES: EPA has established a docket for this action under Docket Identification No. EPA-R04-OAR-2024-0558. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that if at all possible, you contact the person listed in the FOR FURTHER INFORMATION CONTACT section to schedule your inspection. The Regional Office's official hours of business are Monday through Friday 8:30 a.m. to 4:30 p.m., excluding Federal holidays.

FOR FURTHER INFORMATION CONTACT: Nelsha Athauda, Multi Air Pollutant Coordination Section, Air Planning and Implementation Branch, Air and Radiation Division, U.S. Environmental Protection Agency, Region 4, 61 Forsyth Street SW, Atlanta, Georgia 30303-8960. The telephone number is (404) 562-9360. Ms. Athauda can also be reached via electronic mail at Athauda.Nelsha@epa.gov.

SUPPLEMENTARY INFORMATION:

I. Background

In accordance with the Clean Air Act (CAA), EPA is approving the York County Area maintenance plan for the 2008 8-hour ozone NAAQS, adopted by SCDES on September 26, 2023, and submitted by SCDES as a revision to the South Carolina SIP on September 26, 2023. This maintenance plan provides for maintenance of the 2008 8-hour ozone NAAQS through the end of the second 10-year portion of the maintenance period. On May 21, 2012, the bi-state Charlotte Area was designated marginal nonattainment for the 2008 8-hour ozone NAAQS, effective July 20, 2012. See 77 FR 30088 (May 21, 2012). EPA approved the York County maintenance plan for the first 10-year period and the State's requests to redesignate the York County Area to attainment for the 2008 8-hour ozone NAAQS, effective January 11, 2016. See 80 FR 76865 (December 11, 2015).

In a notice of proposed rulemaking (NPRM) published on September 5, 2025 (90 FR 42878), EPA proposed to approve the maintenance plan, including the 2018 and 2036 budgets for NOX and VOC for the York County Area because EPA believes that the Area will maintain the 2008 8-hour ozone NAAQS with the emissions at the levels of the budgets. The details of South Carolina's submission, as well as the rationale for EPA's action, are explained in the September 5, 2025, NPRM. Comments on the September 5, 2025, NPRM were due on or before October 6, 2025. No comments were received on the September 5, 2025, NPRM.

II. Final Action

EPA is approving the second maintenance plan for the 2008 8-hour ozone NAAQS for the South Carolina portion of the bi-state Charlotte Area, including the NOX and VOC budgets for 2018 and 2036 (to replace the previous NOX and VOC budgets for 2014 and 2026 from the first 10-year maintenance plan), into the South Carolina SIP under CAA section 175A. The maintenance plan meets all applicable requirements for maintenance plans and related contingency provisions in CAA section 175A, including a demonstration that the bi-state Charlotte Area will continue to maintain the 2008 8-hour ozone NAAQS until January 11, 2036, the end of the 20-year maintenance period. Further, as part of this final action, EPA finds the newly established NOX and VOC budgets for the York County Area adequate for the purpose of transportation conformity. Within 24 months from the effective date of this final rule, the transportation partners will need to demonstrate conformity to the new NOX and VOC budgets pursuant to 40 CFR 93.104(e)(3).

III. Statutory and Executive Order Reviews

Under the CAA, the Administrator is required to approve a SIP submission that complies with the provisions of the CAA and applicable Federal regulations. See 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of Section 12(d) of the National Technology Transfer and Advancement Act of 1995 (15 U.S.C. 272 note) because application of those requirements would be inconsistent with the CAA.

Because this action merely approves state law as meeting Federal requirements and does not impose additional requirements beyond those imposed by state law, this action for the State of South Carolina does not have Tribal implications as specified by Executive Order 13175 (65 FR 67249, November 9, 2000). Therefore, this action will not impose substantial direct costs on Tribal governments or preempt Tribal law. The Catawba Indian Nation (CIN) Reservation is located within the boundary of York County, South Carolina. Pursuant to the Catawba Indian Claims Settlement Act, S.C. Code Ann. 27-16-120 (Settlement Act), “all state and local environmental laws and regulations apply to the [Catawba Indian Nation] and Reservation and are fully enforceable by all relevant state and local agencies and authorities.” The CIN also retains authority to impose regulations applying higher environmental standards to the Reservation than those imposed by state law or local governing bodies, in accordance with the Settlement Act.

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by January 20, 2026. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Incorporation by reference, Intergovernmental relations, Ozone, Reporting and recordkeeping requirements, Volatile organic compounds.

Dated: October 29, 2025.
Kevin McOmber,
Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart PP—South Carolina

2. In § 52.2120(e), amend the table by adding an entry for “2008 8-hour ozone Second 10-Year Maintenance Plan for the York County, South Carolina portion of the bi-state Charlotte Area” at the end of the table.

The addition read as follows:

§ 52.2120 Identification of plan.

* * * * *

(e) * * *

Provision | State effective date | EPA approval date | Explanation
* * * * * * *
2008 8-hour ozone Second 10-Year Maintenance Plan for the York County, South Carolina portion of the bi-state Charlotte Area | 9/26/2023 | 11/20/2025, 90 FR [Insert Federal Register page where the document begins]

[FR Doc. 2025-20449 Filed 11-19-25; 8:45 am]

BILLING CODE 6560-50-P